DEPARTMENT OF THE INTERIOR

Bureau of Reclamation

Mormon Island Auxiliary Dam (MIAD) Modification Project, Sacramento and El Dorado Counties, CA

AGENCY: Bureau of Reclamation, Interior.

ACTION: Notice of availability of the Draft Supplemental Environmental Impact Statement/Environmental Impact Report (EIS/EIR) and notice of public meeting.

SUMMARY: Pursuant to the National Environmental Policy Act and the California Environmental Quality Act, the Bureau of Reclamation (Reclamation), the lead Federal agency and the Sacramento Area Flood Control Agency (SAFCA), the CEQA lead agency, have made available for public review and comment a Draft Supplemental EIS/EIR for the MIAD Modification Project.

The MIAD Modification Project is a feature of the larger Folsom Dam Safety/Flood Damage Reduction (DS/FDR) Project currently underway by Reclamation, the U.S. Army Corps of Engineers (Corps), and the Corps' non-Federal sponsors, the Central Valley Flood Protection Board and SAFCA, to address hydrologic, static, and seismic issues at Folsom Dam and Reservoir. The analysis in the Folsom DS/FDR EIS/EIR considered several methods to modify MIAD to achieve Reclamation's risk standards for dam safety. Subsequent investigations have shown that the preferred alternative's design approaches and construction techniques need to be changed to achieve Reclamation's existing risk standards for dam safety. Specifically, the utilization of jet grouting to stabilize the foundation of MIAD will not meet Reclamation's dam safety standards. The purpose of this Draft Supplemental EIS/EIR is to analyze additional techniques to stabilize the MIAD foundation to meet the existing risk standards for dam safety.

Additionally, the supplement addresses potential environmental effects associated with completing mitigation for the Folsom DS/FDR Project at the Mississippi Bar site. The two mitigation alternatives include the improvement of up to 80 acres of seasonal wetland and riparian habitat and the no action alternative. The environmental effects of the mitigation were not addressed in the previous environmental document as the location for mitigation had not been determined.

DATES: Comments on the MIAD Modification Project Draft Supplemental EIS/EIR should be submitted on or before January 18, 2010.

Two public meetings will be held to provide interested individuals with an opportunity to comment in writing on the MIAD Modification Project Draft Supplemental EIS/EIR. Each public meeting will allow time to review information displays, ask questions, and provide written comments on distributed comment forms:

• Wednesday, December 16, 2009, 6 to 9 p.m., Folsom, CA.

• Thursday, December 17, 2009, 6 to 9 p.m., El Dorado Hills, CA.

ADDRESSES: The public meetings will be held at:

• Folsom: Folsom Community Center, 52 Natoma Street, Folsom, CA 95630.

• El Dorado Hills: El Dorado Hills Community Services District, 1021 Harvard Way, El Dorado Hills, CA 95762.

Send written comments on the MIAD Modification Project Draft Supplemental EIS/EIR and requests for a compact disk or a bound copy of the Draft Supplemental EIS/EIR to Mr. Matthew See, Bureau of Reclamation, 7794 Folsom Dam Road, Folsom, CA 95630 (e-mail: msee@usbr.gov; telephone: 916-989-7198). The MIAD Draft Supplemental EIS/EIR will also be available at: http://www.usbr.gov/mp/nepa/nepa_projdetails.cfm?Project_ID=3472.

Copies of the MIAD Modification Project Draft Supplemental EIS/EIR are available for public review at the following locations:

Bureau of Reclamation, Denver Office Library, Building 67, Room 167, Denver Federal Center, 6th and Kipling, Denver CO 80225.

Bureau of Reclamation, Mid-Pacific Regional Office Library, 2800 Cottage Way, W-1825, Sacramento, CA 95825-1989.

El Dorado County Library, 345 Fair Lane, Placerville, CA 95667-5699.

Folsom Public Library, 411 Stafford Street, Folsom, CA 95630.

Natural Resources Library, U.S. Department of the Interior, 1849 C Street, NW., Main Interior Building, Washington, DC 20240-0001.

Roseville Public Library, 311 Vernon Street, Roseville, CA 95678.

Sacramento Central Library, 828 I Street, Sacramento, CA 95814-2589.

FOR FURTHER INFORMATION CONTACT: Mr. Matthew See at 916-989-7198, TDD 916-989-7285, e-mail msee@usbr.gov.

SUPPLEMENTARY INFORMATION: The Folsom Facility consists of 12 structures (dams and dikes), that impound the American River forming Folsom Reservoir. As part of their responsibilities, Reclamation and the Corps have determined that the Folsom Facility requires structural improvements to increase overall public safety above existing conditions including addressing dam safety and security issues. Both Reclamation and the Corps share in the responsibility of ensuring that the Folsom Facility is maintained and operated under their respective agency dam safety regulations and guidelines, as defined by Congress. The improvements will enhance the facility's ability to reduce flood damages posed by hydrologic (flood), seismic (earthquake), and static (seepage) events. These events have a low probability of occurrence in a given year; however, due to the large population downstream of Folsom Dam, modifying the facilities is prudent and necessary to improve public safety above current baseline conditions and meet current safety standards.

Reclamation has identified the need for expedited action to reduce hydrologic, static, and seismic risks under its Safety of Dams (SOD) Program and security issues under its Security Program. These identified risks are among the highest risks for all dams in Reclamation's inventory, and the Folsom Facility is among Reclamation's highest priorities within its SOD Program. Both Reclamation and the Corps have conducted engineering studies to identify potential corrective measures for the Folsom Facility to alleviate seismic, static, and hydrologic dam safety issues and flood management concerns. These two Federal agencies have combined their efforts resulting in (1) a Joint Federal Project for addressing Reclamation's dam safety hydrologic risk and the Corps' flood damage red objectives and (2) other stand-alone flood damage reduction and dam safety actions to be completed by the respective agencies in a coordinated manner.

A supplemental EIS/EIR is required to address the potential environmental effects of the newly proposed foundation stabilizing methods. The Draft Supplemental EIS/EIR describes four action alternatives that address the stabilization of both the upstream (water side) and downstream (dry side) foundations of MIAD. The No Action alternative is also included in these analyses. To address the upstream foundation seismic issues, an overlay would be added. To address the downstream foundation seismic issues, the foundation needs to be completely excavated and replaced. The four action alternatives address different methods of excavation and replacement of the downstream foundation.

The MIAD Modification Project Draft Supplemental EIS/EIR discusses the project background, purpose and need, project description and alternatives, and related projects. The Draft Supplemental EIS/EIR addresses the impacts of project construction on aquatic resources, terrestrial vegetation and wildlife, hydrology, water quality, flood control, groundwater, water supply, socioeconomics, cultural resources, soils, minerals, geological resources, visual resources, transportation and circulation, land use, planning and zoning, recreation resources, public services and utilities, air quality, public health and safety, growth inducement, noise, environmental justice, and Indian trust assets.

Special Assistance for Public Meetings

If special assistance is required at the public meetings, please contact Mr. Matthew See, Bureau of Reclamation, at 916-989-7198. Please notify Mr. See as far in advance of the meetings as possible to enable Reclamation to secure the needed services. If a request cannot be honored, the requestor will be notified.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: October 19, 2009.
Pablo R. Arroyave,
Deputy Regional Director, Mid-Pacific Region.

[FR Doc. E9-28370 Filed 11-25-09; 8:45 am]

BILLING CODE 4310-MN-P